DEPARTMENT OF HEALTH AND HUMAN SERVICES

Food and Drug Administration

[Docket No. 2004N-0045]

Agency Information Collection Activities; Proposed Collection; Comment Request; Health and Diet Survey—2004 Supplement; Correction

AGENCY: Food and Drug Administration, HHS.

ACTION: Notice; correction.

SUMMARY: The Food and Drug Administration is correcting a notice that appeared in the Federal Register of February 18, 2004 (69 FR 7642). The document announced an opportunity for public comment on the proposed collection of information by the agency on a voluntary consumer survey to gauge consumer understanding of diet-disease relationships, particularly those related to saturated fats, trans fatty acids, and omega-3 fatty acids, and consumer attitudes toward diet, health, and physical activity. The document was published with an incorrect docket number. This document corrects that error.

FOR FURTHER INFORMATION CONTACT: Joyce Strong, Office of Policy and Planning (HF-27), Food and Drug Administration, 5600 Fishers Lane, Rockville, MD 20857, 301-827-7010.

SUPPLEMENTARY INFORMATION: In FR Doc. 04-3411, appearing on page 7642 in the Federal Register of Wednesday, February 18, 2004, the following correction is made:

1. On page 7642, in the second column, in the heading of the document, “[Docket No. 2003N-0045]” is corrected to read “[Docket No. 2004N-0045]”.

Dated: April 23, 2004.
Jeffrey Shuren,
Assistant Commissioner for Policy.

[FR Doc. 04-9837 Filed 4-29-04; 8:45 am]

BILLING CODE 4160-01-S